DEPARTMENT OF HEALTH AND HUMAN SERVICES

Administration for Children and Families

Submission for OMB Review; Comment Request

Title: Access and Visitation Grants to States' Program Survey.

OMB No.: 0970-0204.

Description: States are required, on an annual basis, to provide OCSE with program data on projects that have been funded through the Grants to States for Access and Visitation Program. These program reporting requirements include, but are not limited to, the collection of data on the number of participants served, referral sources, kinds of services delivered, project goals, and other relevant data.

Respondents: State Access and Visitation Program Coordinators and administrators of state and/or local service providers.

Annual Burden Estimates
Instrument | Number of respondents | Number of responses per respondent | Average burden hours per response | Total burden hours
Grants to States: Access and Visitation Program Survey (1 additional year.—to collect FY 2001 program data in FY 2003) | 324 | 1 | 15 | 4,860
State Child Access Program Survey (FY 2003, 2004, 2005) | 324 | 1 | 15 | 4,860
Estimated Total Annual Burden Hours: |  |  |  | Average 6,480 over 3 yrs. (9,720 in FY 2003; 4,860 in FY 2004; 4,860 in FY 2005.

Additional Information: Copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: January 21, 2003.
Robert Sargis,
Reports Clearance Officer.

[FR Doc. 03-1971 Filed 1-28-03; 8:45 am]

BILLING CODE 4184-01-M